DEPARTMENT OF TRANSPORTATION

Federal Aviation Administration

14 CFR Part 71

[Docket No. FAA-2002-14075; Airspace Docket No. 02-AAL-07]

Establishment of Class E Airspace; Wasilla, AK

AGENCY: Federal Aviation Administration (FAA), DOT.

ACTION: Final rule.

SUMMARY: This action establishes new Class E airspace extending upward from 700 feet above the surface at Wasilla, AK. The FAA has developed a new Standard Instrument Approach Procedure (SIAP) for the Wasilla Airport. Class E airspace upward from 700 feet above the surface is necessary to ensure that Instrument Flight Rules (IFR) operations remain within controlled airspace when executing the new SIAP. The intended effect of this rule is to provide adequate controlled airspace for IFR operations at Wasilla Airport, Wasilla, AK.

EFFECTIVE DATE: 0901 UTC, March 20, 2003.

FOR FURTHER INFORMATION CONTACT: Derril Bergt, AAL-538, Federal Aviation Administration, 222 West 7th Avenue, Box 14, Anchorage, AK 99513-7587; telephone number (907) 271-2796; fax: (907) 271-2850; email: Derril.CTR.Bergt@faa.gov. Internet address: http://www.alaska.faa.gov/at or at address http://162.58.28.41/at.

SUPPLEMENTARY INFORMATION:

History

On October 7, 2002, a proposal to revise part 71 of the Federal Aviation Regulations (14 CFR part 71) to add Class E airspace at Wasilla, AK, was published in the Federal Register (67 FR 62410-62412) on October 7, 2002. The FAA has developed a new Standard Instrument Approach Procedure (SIAP) for the Wasilla Airport. The approach is designated Area Navigation (Goblal Positioning System) (RNAV GPS) Runway 3, original. The new Class E airspace is necessary to contain aircraft executing the RNAV (GPS) Runway 3 approach within controlled airspace. Interested parties were invited to participate in this rulemaking proceeding by submitting written comments on the proposal to the FAA. No public comments have been received, thus, the rule is adopted as written.

The area will be depicted on aeronautical charts for pilot reference. The coordinates for this airspace docket are based on North American Datum 83. The Class E airspace areas designated as 700/1200 foot transition areas are published in paragraph 6005 of FAA Order 7400.9K, Airspace Designations and Reporting Points, dated August 30, 2002, and effective September 16, 2002, which is incorporated by reference in 14 CFR 71.1. The Class E airspace designation listed in this document will be added to the Order.

The Rule

This revision to 14 CFR part 71 establishes new Class E airspace upward from 700 feet above the surface at Wasilla, Alaska. Additional Class E airspace is established to contain aircraft executing a new SIAP and will be depicted on aeronautical charts for pilot reference. The intended effect of this rule is to provide adequate controlled airspace for IFR operations at Wasilla Airport, Wasilla, Alaska.

The FAA has determined that this regulation only involves an established body of technical regulations for which frequent and routine amendments are necessary to keep them operationally current. It, therefore'(1) is not a “significant regulatory action” under Executive Order 12866; (2) is not a “significant rule” under DOT Regulatory Policies and Procedures (44 FR 11034; February 26, 1979); and (3) does not warrant preparation of a regulatory evaluation as the anticipated impact is so minimal. Since this a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9K, Airspace Designations and Reporting Points, dated August 30, 2002, and effective September 16, 2002, is amended as follows:

* * * * *

Paragraph 6005 Class E airspace extending upward from 700 feet or more above the surface of the earth.

* * * * *

AAL AK E5 Wasilla, AK [NEW]

Wasilla Airport, AK

(Lat. 61° 34′ 08″ N, long. 149° 32′ 25″ W)

That airspace extending upward from 700 feet above the surface within a 6.5-mile radius of the Wasilla Airport excluding Big Lake Class E Airspace.

* * * * *

Issued in Anchorage, AK, on December 24, 2002.
Trent S. Cummings,
Manager, Air Traffic Division, Alaskan Region.

[FR Doc. 02-33129 Filed 12-31-02; 8:45 am]

BILLING CODE 4910-13-P